DEPARTMENT OF COMMERCE

Foreign-Trade Zones Board

[B-63-2022]

Foreign-Trade Zone (FTZ) 9—Honolulu, Hawaii; Notification of Proposed Production Activity; Par Hawaii Refining, LLC (Renewable Fuels); Kapolei, Hawaii

Par Hawaii Refining, LLC submitted a notification of proposed production activity to the FTZ Board (the Board) for its facility in Kapolei, Hawaii within Subzone 9A. The notification conforming to the requirements of the Board's regulations (15 CFR 400.22) was received on December 14, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include renewable diesel fuel, sustainable aviation fuel, renewable naphtha and carbon dioxide (duty rates—10.5 cents per barrel and 3.7%).

The proposed foreign-status materials and components are crude and refined soybean oil (duty rate 19.1%). The request indicates that the materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is February 6, 2023.

A copy of the notification will be available for public inspection in the “Online FTZ Information System” section of the Board's website.

For further information, contact Diane Finver at Diane.Finver@trade.gov.

Dated: December 21, 2022.
Andrew McGilvray,
Executive Secretary.

[FR Doc. 2022-28218 Filed 12-27-22; 8:45 am]

BILLING CODE 3510-DS-P